DEPARTMENT OF STATE

[Public Notice: 7177]

30-Day Notice of Proposed Information Collection: DS-1648, Application for A, G, or NATO Visa, OMB No. 1405-0100

ACTION: Notice of request for public comment and submission to OMB of proposed collection of information.

SUMMARY: The Department of State has submitted the following information collection request to the Office of Management and Budget (OMB) for approval in accordance with the Paperwork Reduction Act of 1995.

• Title of Information Collection: Application for A, G, or NATO Visa.

• OMB Control Number: 1405-0100.

• Type of Request: Revision of a Currently Approved Collection.

• Originating Office: Bureau of Consular Affairs, Office of Visa Services.

• Form Number: DS-1648.

• Respondents: All applicants for A, G, or NATO visas reauthorizations.

• Estimated Number of Respondents: 30,000.

• Estimated Number of Responses: 30,000.

• Average Hours per Response: 30 minutes.

• Total Estimated Burden: 15,000 hours.

• Frequency: Once per application.

• Obligation to Respond: Required to obtain benefit.

DATES: Submit comments to the Office of Management and Budget (OMB) for up to 30 days from September 21, 2010.

ADDRESSES: Direct comments to the Department of State Desk Officer in the Office of Information and Regulatory Affairs at the Office of Management and Budget (OMB). You may submit comments by the following methods:

• E-mail: oira_submission@omb.eop.gov. You must include the DS form number, information collection title, and OMB control number in the subject line of your message.

• Fax: 202-395-5806. Attention: Desk Officer for Department of State.

FOR FURTHER INFORMATION CONTACT: Direct requests for additional information regarding the collection listed in this notice, including requests for copies of the proposed information collection and supporting documents, to Stefanie Claus of the Office of Visa Services, U.S. Department of State, 2401 E. Street, NW., L-603, Washington, DC 20522, who may be reached at (202) 663-2910.

SUPPLEMENTARY INFORMATION: We are soliciting public comments to permit the Department to:

• Evaluate whether the proposed information collection is necessary for the proper performance of our functions.

• Evaluate the accuracy of our estimate of the burden of the proposed collection, including the validity of the methodology and assumptions used.

• Enhance the quality, utility, and clarity of the information to be collected.

• Minimize the reporting burden on those who are to respond, including the use of automated collection techniques or other forms of technology.

Abstract of Proposed Collection

The Department of State uses Form DS-1648 to elicit information from applicants for a renewal of A, G, or NATO visas, excluding A-3, G-5 and NATO-7 applicants. An estimated 30,000 renewal applications are filed each year.

Methodology

The DS-1648 will be submitted electronically to the Department via the internet. The applicant will be instructed to print a confirmation page containing a bar coded record locator, which will be scanned at the time of processing.

Dated: September 8, 2010.
David T. Donahue,
Deputy Assistant Secretary, Bureau of Consular Affairs, Department of State.

[FR Doc. 2010-23554 Filed 9-20-10; 8:45 am]

BILLING CODE 4710-06-P